DEPARTMENT OF ENERGY

Federal Energy Regulatory Commission

[Project No. 14065-000]

Amnor Hydro West, Inc.; Notice of Preliminary Permit Application Accepted for Filing and Soliciting Comments, Motions To Intervene, and Competing Applications

On January 24, 2011, and supplemented on April 27, 2011, Amnor Hydro West, Inc. filed an application for a preliminary permit, pursuant to section 4(f) of the Federal Power Act (FPA), proposing to study the feasibility of the Clear Creek Dam Hydropower Project (project) to be located on the North Fork Tieton River, near Naches, Yakima County, Washington. The sole purpose of a preliminary permit, if issued, is to grant the permit holder priority to file a license application during the permit term. A preliminary permit does not authorize the permit holder to perform any land-disturbing activities or otherwise enter upon lands or waters owned by others without the owners' express permission.

The proposed project would utilize the existing outlet works of the U.S. Bureau of Reclamation's Clear Creek Dam. The applicant proposes the following new facilities: (1) A powerhouse to be constructed on the downstream side of the dam below the outlet works of the U.S.G.S monitoring station that has been fitted to accommodate a turbine generating system; (2) two Francis turbine/generator units with a combined capacity of 920 kilowatts; (3) a tailrace discharge works consisting of an exhaust apron; (4) a 14.7-kilovolt, 3,500-foot-long transmission line from the powerhouse southwest to a proposed substation; and (5) appurtenant facilities. The estimated annual generation of the project would be 3.9 gigawatt-hours.

Applicant Contact: Mr. Adam T. Supronik, 42 Pearsall Street, Staten Island, New York 10305; phone: (347) 415-9600.

FERC Contact: Patrick Murphy; phone: (202) 502-8755.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14065-000) in the docket number field to access the document. For assistance, contact FERC Online Support.

Dated: October 7, 2011.
Kimberly D. Bose,
Secretary.

[FR Doc. 2011-26596 Filed 10-13-11; 8:45 am]

BILLING CODE 6717-01-P